INTERNATIONAL TRADE COMMISSION

[Investigation No. 337-TA-981]

Certain Electronic Devices Containing Strengthened Glass and Packaging Thereof; Termination of an Investigation on the Basis of Withdrawal of the Complaint

AGENCY: U.S. International Trade Commission.

ACTION: Notice.

SUMMARY: Notice is hereby given that the U.S. International Trade Commission has determined not to review the presiding administrative law judge's (“ALJ”) initial determination (“ID”) (Order No. 12), which terminated the investigation on the basis of withdrawal of the complaint.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission TDD terminal on (202) 205-1810.

SUPPLEMENTARY INFORMATION: The Commission instituted this investigation on January 14, 2016, based on an amended complaint filed by Saxon Glass Technologies, Inc. of Alfred, New York (“Saxon”). 81 FR 1965 (Jan. 14, 2016). The amended complaint alleged violations of section 337 of the Tariff Act of 1930, as amended (19 U.S.C. 1337), in the importation into the United States, the sale for importation, or the sale within the United States after importation of certain electronic devices containing strengthened glass and packaging thereof. The alleged violation of section 337 is based upon U.S. Trademark Registration No. 2,639,419, as well as common law trademark infringement and dilution. The notice of investigation named as the respondent Apple Inc. of Cupertino, California (“Apple”). 81 FR 1965. The Office of Unfair Import Investigations was also named as a party.

On July 25, 2016, Saxon moved to terminate the investigation in its entirety based upon withdrawal of the complaint. On July 27, 2016, Apple responded in opposition to the motion. On August 1, 2016, the Commission investigative attorney responded in support of the motion.

On August 10, 2016, the ALJ granted the motion as the subject ID (Order No. 12). The ALJ found that the motion complied with Commission Rules, and that extraordinary circumstances did not exist to prevent granting the motion. Id. at 2-3; see 19 CFR 210.21(a).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: September 7, 2016.
Lisa R. Barton,
Secretary to the Commission.

[FR Doc. 2016-21848 Filed 9-9-16; 8:45 am]

BILLING CODE 7020-02-P